FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-061.

Title: West Coast of South America Discussion Agreement.

Parties: CMA CGM S.A.; Hamburg-Süd; Hapg-Lloyd AG; Mediterranean Shipping Company, SA; and Seaboard Marine Ltd.

Filing Party: Wayne R. Rohde, Esq.; Cozen O'Connor; 1200 Nineteenth Street NW., Washington, DC 20036.

Synopsis: The amendment would add King Ocean Services Limited, Inc. as a party to the agreement.

Agreement No.: 011574-019.

Title: Pacific Islands Discussion Agreement.

Parties: Hamburg Sud KG doing business under its own name and the name Fesco Australia/New Zealand Liner Services (FANZL); and Polynesia Line Ltd.

Filing Party: Wayne R. Rohde, Esq.; Cozen O'Connor; 1200 Nineteenth Street NW., Washington, DC 20036.

Synopsis: The amendment deletes CMA-CGM SA and Compagnie Maritime Marfret SA as parties to the agreement.

Agreement No.: 012243-001.

Title: MOL/Glovis Space Charter Agreement.

Parties: Mitsui O.S.K. Lines, Ltd. and Hyundai Glovis Co., Ltd.

Filing Party: Eric. C. Jeffrey, Esq.; Nixon Peabody LLP; 799 9th Street NW., Suite 500, Washington, DC 20001.

Synopsis: The amendment adds the trade between Mexico and the United States to the geographic scope, authorizes MOL to charter space to Glovis, and clarifies the nature of the cargo covered by the Agreement.

Agreement No.: 012375.

Title: Hanjin/Zim Slot Exchange Agreement.

Parties: Hanjin Shipping Co., Ltd. and Zim Integrated Shipping Services, Ltd.

Filing Party: Mark E. Newcomb; ZIM American Integrated Shipping Services Co., LLC; 5801 Lake Wright Dr., Norfolk, VA 23508.

Synopsis: The amendment would add Taiwan, Malaysia, and Singapore to the geographic scope, and increase the slot sale and purchase authority to 2,000 TEUs per sailing.

Agreement No.: 012293-006.

Title: Maersk/MSC Vessel Sharing Agreement.

Parties: Maersk Line A/S and MSC Mediterranean Shipping Company S.A.

Filing Party: Wayne Rohde, Esq.; Cozen O'Connor; 1200 Nineteenth St. NW., Washington, DC 20036.

Synopsis: The Amendment would increase the number of vessels the Parties are authorized to operate in the U.S. trades.

By Order of the Federal Maritime Commission.
Dated: June 17, 2016.
Rachel E. Dickon,
Assistant Secretary.

[FR Doc. 2016-14814 Filed 6-21-16; 8:45 am]

BILLING CODE 6731-AA-P